ENVIRONMENTAL PROTECTION AGENCY

[EPA-HQ-OGC-2024-0192; FRL-11917-01-OGC]

Proposed Consent Decrees, Toxic Substances Control Act Suit

AGENCY: Environmental Protection Agency (EPA).

ACTION: Notice of proposed consent decrees; request for public comment.

SUMMARY: Notice is given of proposed consent decrees to address lawsuits filed by Community In-Power and Development Association Inc., Learning Disabilities Association of America, Louisiana Environmental Action Network, Sierra Club, and Texas Environmental Justice Advocacy Services (collectively, “CIDA Plaintiffs”) in the United States District Court for the District of Columbia on September 18, 2023: Community In-Power and Development Association Inc. v. EPA, Case No. 1:23-cv-02715 (D.D.C.) (the “CIDA action”) and by American Chemistry Council (“ACC”) in the same court on December 19, 2023: ACC v. EPA, Case No. 1:23-cv-03726 (D.D.C.) (the “ACC action”). The cases were consolidated on January 17, 2024. The CIDA Plaintiffs and ACC filed the cases pursuant to the Toxic Substances Control Act (“TSCA”), alleging that EPA failed to perform non-discretionary duties under TSCA to timely complete several risk evaluations. EPA is providing notice of the proposed consent decrees, which would resolve all claims in both cases by establishing deadlines for EPA to take action on the subject risk evaluations.

DATES: Written comments on the proposed consent decrees must be received by May 28, 2024.

ADDRESSES: Submit your comments, identified by Docket ID No. EPA-HQ-OGC-2024-0192, online at https://www.regulations.gov (EPA's preferred method). Follow the online instructions for submitting comments.

Instructions: All submissions received must include the Docket ID number for this action. Comments received may be posted without change to https://www.regulations.gov, including any personal information provided. For detailed instructions on sending comments and additional information on the rulemaking process, see the “Additional Information about Commenting on the Proposed Consent Decrees” heading under the SUPPLEMENTARY INFORMATION section of this document.

FOR FURTHER INFORMATION CONTACT: Stephanie Schwarz, Pesticides and Toxic Substances Law Office, Office of General Counsel, U.S. Environmental Protection Agency; telephone (202) 564-8496; email address schwarz.stephanie@epa.gov.

SUPPLEMENTARY INFORMATION:

I. Obtaining Copies of the Proposed Consent Decrees

The official public docket for this action (Docket ID No. EPA-HQ-OGC-2024-0192) contains copies of the proposed consent decrees. The official public docket is available for public viewing at the Office of Environmental Information (OEI) Docket in the EPA Docket Center, EPA West, Room 3334, 1301 Constitution Ave. NW, Washington, DC. The EPA Docket Center Public Reading Room is open from 8:30 a.m. to 4:30 p.m., Monday through Friday, excluding legal holidays. The telephone number for the Public Reading Room is (202) 566-1744 and the telephone number for the OEI Docket is (202) 566-1752.

The electronic version of the public docket for this action contains copies of the proposed consent decrees and is available through https://www.regulations.gov. You may use https://www.regulations.gov to submit or view public comments, access the index listing of the contents of the official public docket, and access those documents in the public docket that are available electronically. Once in the system, key in the appropriate docket identification number then select “search.”

II. Additional Information About Commenting on the Proposed Consent Decrees

Submit your comments, identified by Docket ID No. EPA-HQ-OGC-2024-0192, via https://www.regulations.gov. Once submitted, comments cannot be edited or removed from this docket. EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

In accordance with the EPA's “Consent Decrees and Settlement Agreements to Resolve Environmental Claims Against the Agency” (March 18, 2022), for a period of thirty (30) days following the date of publication of this document, the Agency will accept written comments relating to a proposed consent decrees for these claims. EPA or the Department of Justice may withdraw or withhold consent to the proposed consent decrees if the comments disclose facts or considerations that indicate that such consent is inappropriate, improper, or inadequate.

Please ensure that your comments are submitted within the specified comment period. Comments received after the close of the comment period will be marked “late.” EPA is not required to consider these late comments.

Randolph L. Hill,
Associate General Counsel.

[FR Doc. 2024-08936 Filed 4-25-24; 8:45 am]

BILLING CODE 6560-50-P